FEDERAL COMMUNICATIONS COMMISSION

47 CFR Part 73

[DA 03-1081, MB Docket No. 03-95, RM-10652

Radio Broadcasting Services; Clarendon, TX

AGENCY: Federal Communications Commission.

ACTION: Proposed rule.

SUMMARY: This document requests comments on a petition filed by Maurice Salsa proposing the allotment of Channel 237A at Clarendon, Texas, as that community's second local service. Channel 237A can be allotted to Clarendon, consistent with the minimum distance separation requirements of the Commission's rules, provided there is a site restriction of 13.8 kilometers (8.6 miles) southeast of the community. The site restriction will prevent a short-spacing to the license site of Station KFLP-FM, Channel 237A, Floydada, Texas. The reference coordinates for Channel 237A at Clarendon are 34-52-47 North Latitude and 100-45-15 West Longitude.

DATES: Comments must be filed on or before May 27, 2003, and reply comments on or before June 10, 2003.

ADDRESSES: Federal Communications Commission, 445 Twelfth Street, SW., Washington, DC 20554. In addition to filing comments with the FCC, interested parties should serve the petitioner, as follows: Maurice Salsa, 5615 Evergreen Valley Drive, Kingwood, Texas 77345.

FOR FURTHER INFORMATION CONTACT: Rolanda F. Smith, Media Bureau, (202) 418-2180.

SUPPLEMENTARY INFORMATION: This is a summary of the Commission's notice of proposed rulemaking, MB Docket No. 03-95, adopted April 2, 2003, and released April 4, 2003. The full text of this Commission decision is available for inspection and copying during normal business hours in the Commission's Reference Center 445 Twelfth Street, SW., Washington, DC 20554. The complete text of this decision may also be purchased from the Commission's duplicating contractor, Qualex International Portals II, 445 12th Street, SW., Room CY-B402, Washington, DC 20554, telephone 202-863-2893, facsimile 202-863-2898, or via e-mail qualexint@aol.com.

Provisions of the Regulatory Flexibility Act of 1980 do not apply to this proceeding.

Members of the public should note that from the time a notice of proposed rulemaking is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Texas, is amended by adding Channel 237A at Clarendon.

Federal Communications Commission.
John A. Karousos,
Assistant Chief, Audio Division, Media Bureau.

[FR Doc. 03-9166 Filed 4-14-03; 8:45 am]

BILLING CODE 6712-01-P